DEPARTMENT OF TRANSPORTATION

Federal Motor Carrier Safety Administration

[Docket Nos. FMCSA-98-4334, FMCSA-00-7006, FMCSA-00-7363, FMCSA-00-7918, FMCSA-00-8398, FMCSA-01-8398, FMCSA-02-12844, FMCSA-02-13411, FMCSA-04-17984, FMCSA-05-20027]

Qualification of Drivers; Exemption Renewals; Vision

AGENCY: Federal Motor Carrier Safety Administration (FMCSA), DOT.

ACTION: Notice of final disposition.

SUMMARY: FMCSA previously announced its decision to renew the exemptions from the vision requirement in the Federal Motor Carrier Safety Regulations for 46 individuals. FMCSA has statutory authority to exempt individuals from the vision requirement if the exemptions granted will not compromise safety. The Agency has reviewed the comments submitted in response to the previous announcement and concluded that granting these exemptions will provide a level of safety that will be equivalent to, or greater than, the level of safety maintained without the exemptions for these commercial motor vehicle (CMV) drivers.

FOR FURTHER INFORMATION CONTACT: Dr. Mary D. Gunnels, Chief, Physical Qualifications Division, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Electronic Access

You may see all the comments online through the Document Management System (DMS) at http://dmses.dot.gov.

Background

Under 49 U.S.C. 31136(e) and 31315, FMCSA may grant an exemption for a 2-year period if it finds “such exemption would likely achieve a level of safety that is equivalent to, or greater than, the level that would be achieved absent such exemption.” The statute also allows the Agency to renew exemptions at the end of the 2-year period. The Notices were published on March 13 and March 16, 2007. The comment periods ended on April 12, and April 22, 2007.

Discussion of Comments

FMCSA received two comments in these proceedings. The comments were considered and discussed below.

Ms. Sachau believes that the approval or renewal of vision exemptions does not take into account the issue of safety on the road and granting exemptions only makes the roads much more dangerous.

A review of each record for safety while driving with the respective vision deficiencies over the past two years indicates each applicant continues to meet the vision exemption standards.

To evaluate the effect of these exemptions on safety, FMCSA considered not only the medical reports about the applicants' vision, but also their driving records and experience with the vision deficiency. To qualify for an exemption from the vision standard, FMCSA requires a person to present verifiable evidence that he or she has driven a commercial vehicle safely with the vision deficiency for 3 years. Recent driving performance is especially important in evaluating future safety, according to several research studies designed to correlate past and future driving performance. Results of these studies support the principle that the best predictor of future performance by a driver is his/her past record of crashes and traffic violations. Copies of the studies may be found at docket number FMCSA-98-3637.

Advocates for Highway and Auto Safety (Advocates) expressed opposition to FMCSA's policy to grant exemptions from the FMCSR, including the driver qualification standards. Specifically, Advocates: (1) Objects to the manner in which FMCSA presents driver information to the public and makes safety determinations; (2) objects to the Agency's reliance on conclusions drawn from the vision waiver program; (3) claims the Agency has misinterpreted statutory language on the granting of exemptions (49 U.S.C. 31136(e) and 31315); and finally (4) suggests that a 1999 Supreme Court decision affects the legal validity of vision exemptions.

The issues raised by Advocates were addressed at length in 64 FR 51568 (September 23, 1999), 64 FR 66962 (November 30, 1999), 64 FR 69586 (December 13, 1999), 65 FR 159 (January 3, 2000), 65 FR 57230 (September 21, 2000), and 66 FR 13825 (March 7, 2001). We will not address these points again here, but refer interested parties to those earlier discussions.

Conclusion

The Agency has not received any adverse evidence on any of these drivers that indicates that safety is being compromised. Based upon its evaluation of the 46 renewal applications, FMCSA renews the Federal vision exemptions for Carl W. Adams, David W. Ball, Joseph M. Blankenship, Mark L. Braun, David F. Breuer, Willie Burnett, Jr., Richard D. Carlson, Wilford F. Christian, David J. Collier, Robert P. Conrad, Sr., Richard S. Cummings, Joseph D. Dean, Donald P. Dodson, Jr., Donald K. Driscoll, Jerald O. Edwards, Elias Gomez, Jr., William G. Holland, Bruce G. Horner, Daniel L. Jacobs, Jimmy C. Killian, Stephanie D. Klang, Mark J. Koscinski, Jose M. Limon-Alvarado, Eugene R. Lydick, Thomas F. Marczewski, Roy E. Mathews, James T. McGraw, Jr., Carl A. Michel, Sr., John W. Montgomery, Robert A. Moss, Dexter L. Myhre, Henry C. Patton, Bobby G. Pool, Sr., Zeljko Popovac, George D. Schell, Richie J. Schwendy, David A. Stafford, Scottie Steward, James A. Stoudt, Artis Suitt, Clarence L. Swann, Jr., Thaddeus E. Temoney, Ralph A. Thompson, Kerry W. VanStory, Harry C. Weber, and Yu Weng.

In accordance with 49 U.S.C. 31136(e) and 31315, each renewal exemption will be valid for 2 years unless revoked earlier by FMCSA. The exemption will be revoked if: (1) The person fails to comply with the terms and conditions of the exemption; (2) the exemption has resulted in a lower level of safety than was maintained before it was granted; or (3) continuation of the exemption would not be consistent with the goals and objectives of 49 U.S.C. 31136 and 31315.

Issued on: July 18, 2007.
Pamela M. Pelcovits,
Acting Associate Administrator for Policy and Program Development.

[FR Doc. E7-14296 Filed 7-23-07; 8:45 am]

BILLING CODE 4910-EX-P